COMMISSION ON CIVIL RIGHTS

Notice of Public Meeting of the New York Advisory Committee; Correction

AGENCY: U.S. Commission on Civil Rights.

ACTION: Notice; revision to a sentence in the SUPPLEMENTARY INFORMATION.

SUMMARY: The Commission on Civil Rights published a notice in the Federal Register on Wednesday, March 23, 2023, concerning a meeting of the New York Advisory Committee. The following sentence in the SUPPLEMENTARY INFORMATION section, “Individuals who are deaf, deafblind, and hard of hearing may also follow the proceedings by first calling the Federal Relay Service at 1-800-877-8339 and providing the Service with the conference call number and meeting ID number,” should be replaced with “Live transcription will be available for the duration of the meeting. To request additional accommodations, please email svillaneuva@usccr.gov at least 10 business days prior to the meeting.”

FOR FURTHER INFORMATION CONTACT: Mallory Trachtenberg, 312-353-8311, mtrachtenberg@usccr.gov.

Correction: In the Federal Register on Wednesday, March 23, 2023, in FR Document Number 2023-05931, on page 17518, the second column, please replace the sentence in the SUPPLEMENTARY INFORMATION section, “Individuals who are deaf, deafblind, and hard of hearing may also follow the proceedings by first calling the Federal Relay Service at 1-800-877-8339 and providing the Service with the conference call number and meeting ID number,” with the following, “Live transcription will be available for the duration of the meeting. To request additional accommodations, please email svillaneuva@usccr.gov at least 10 business days prior to the meeting.”

Dated: March 25, 2023.
David Mussatt,
Supervisory Chief, Regional Programs Unit.

[FR Doc. 2023-06570 Filed 3-29-23; 8:45 am]

BILLING CODE 6335-01-P